DEPARTMENT OF TRANSPORTATION

Federal Aviation Administration

14 CFR Part 71

[Docket No. FAA-2016-9118; Airspace Docket No. 16-AGL-3]

Amendment of Class D and E Airspace for the Following North Dakota Towns; Wahpeton, ND; Hettinger, ND; Fargo, ND; Grand Fork, ND; Carrington, ND; Cooperstown, ND; Pembina, ND; Rugby, ND; Devils Lake, ND; Bottineau, ND; Valley City, ND and Gwinner, ND

AGENCY: Federal Aviation Administration (FAA), DOT.

ACTION: Final rule.

SUMMARY: This action modifies Class E airspace extending upward from 700 feet above the surface at Wahpeton/Harry Stern Airport, Wahpeton, ND; Hettinger Municipal Airport, Hettinger, ND; Gwinner-Roger Melroe Field, Gwinner, ND; and Rugby Municipal Airport, Rugby, ND. Decommissioning of non-directional radio beacons (NDBs), cancellation of NDB approaches, and implementation of area navigation (RNAV) procedures have made this action necessary for the safety and management of instrument flight rules (IFR) operations at these airports. This action also updates the geographic coordinates and airport names for certain airports listed in the associated Class D and E airspace areas.

DATES: Effective 0901 UTC, December 7, 2017. The Director of the Federal Register approves this incorporation by reference action under Title 1, Code of Federal Regulations, part 51, subject to the annual revision of FAA Order 7400.11 and publication of conforming amendments.

ADDRESSES: FAA Order 7400.11, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Ron Laster, Contract Support, Federal Aviation Administration, Operations Support Group, Central Service Center, 10101 Hillwood Parkway, Fort Worth, TX 76177; telephone (817) 222-5879.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it modifies Class D and E airspace to support IFR operations in standard instrument approach procedures at the following airports: Wahpeton/Harry Stern Airport, Wahpeton, ND; Hettinger Municipal Airport, Hettinger, ND; Gwinner-Roger Melroe Field, Gwinner, ND; Rugby Municipal Airport, Rugby, ND; Hector International Airport, Fargo, ND; Grand Forks Air Force Base, Grand Forks, ND; Carrington Municipal Airport, Carrington, ND; Pembina Municipal Airport, Pembina, ND; Bottineau Municipal Airport, Bottineau, ND; Cooperstown Municipal Airport, ND; Devils Lake Regional Airport, Devils Lake, ND, and Barnes County Municipal Airport, Valley City, ND.

History

On January 13, 2017, the FAA published in the Federal Register (82 FR 4222) Docket No. FAA-2016-9118 a notice of proposed rulemaking (NPRM) to modify Class D and Class E airspace at Wahpeton/Harry Stern Airport, Wahpeton, ND; Hettinger Municipal Airport, Hettinger, ND; Gwinner-Roger Melroe Field, Gwinner, ND; Rugby Municipal Airport, Rugby, ND; Hector International Airport, Fargo, ND; Grand Forks Air Force Base, Grand Forks, ND; Carrington Municipal Airport, Carrington, ND; Pembina Municipal Airport, Pembina, ND; Bottineau Municipal Airport, Bottineau, ND; Cooperstown Municipal Airport, ND; Devils Lake Regional Airport, Devils Lake, ND, and Barnes County Municipal Airport, Valley City, ND. Interested parties were invited to participate in this rulemaking effort by submitting written comments on the proposal to the FAA. One commenter noted that two of the proposed legal descriptions contained inconsistent longitude for Grand Forks Air Force Base. The FAA has corrected this inconsistency in the final rule. The other stated no comment.

Also, a minor correction is made in the proposal for Hettinger Municipal Airport, Hettinger, ND, listed in Class E airspace extending upward from 700 feet above the surface. The airspace description should read “Within a 6.5-mile radius (increased from a 6.4-mile) radius . . .”, instead of “Within a 6.4-mile radius (previously a 7-mile radius)”.

Class D and Class E airspace designations are published in paragraphs 5000, 6002, 6004, and 6005, respectively, of FAA Order 7400.11A, dated August 3, 2016, and effective September 15, 2016, which is incorporated by reference in 14 CFR 71.1. The Class D and Class E airspace designation listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14 Code of Federal Regulations (14 CFR) part 71 by:

Modifying geographic coordinates in Class D airspace for Hector International Airport, Fargo, ND; and

Modifying Class E airspace extending upward from 700 feet above the surface:

Within a 6.4-mile radius (reduced from a 7-mile radius) of Harry Stern Airport, Wahpeton, ND, and updating the geographic coordinates of the airport to coincide with the FAA's aeronautical database;

Within a 6.5-mile radius (increased from a 6.4-mile radius) of Hettinger Municipal Airport, Hettinger, ND, and updating the geographic coordinates of the airport to coincide with the FAA's aeronautical database;

Within a 6.5-mile radius (reduced from a 7-mile radius) of Gwinner-Roger Melroe Field, Gwinner, ND, and updating the geographic coordinates of the airport to coincide with the FAA's aeronautical database; and

Within a 6.3-mile radius (reduced from a 7-mile radius) of Rugby Municipal Airport, Rugby, ND, and updating the geographic coordinates of the airport to coincide with the FAA's aeronautical database.

The geographic coordinates will be adjusted for Hector International Airport, Fargo, ND; Grand Forks Air Force Base, Grand Forks, ND; Barnes County Municipal Airport, Valley City, ND; Pembina Municipal Airport, Pembina, ND; Devils Lake VOR/DME; Devils Lake Regional Airport, Devils Lake, ND; Carrington Municipal Airport, Carrington, ND; Bottineau Municipal Airport, Bottineau, ND; Cooperstown Municipal Airport, ND, as well as the airport names for Barnes County Municipal Airport (formerly Valley City/Barnes County Municipal), Valley City, ND, and Devils Lake Regional Airport (formerly Devils Lake Municipal Airport), Devils Lake, ND, to coincide with the FAA's aeronautical database.

Airspace reconfiguration is necessary due to the decommissioning of NDBs, cancellation of NDB approaches, and implementation of RNAV procedures at these airports. Controlled airspace is necessary for the safety and management of the standard instrument approach procedures for IFR operations at the airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

AGL ND D Fargo, ND [Amended]

Hector International Airport, ND

(Lat. 46°55′14″ N., long. 96°48′57″ W.)

That airspace extending upward from the surface to and including 3,400 feet MSL within a 4.5-mile radius of Hector International Airport.

* * * * *

Paragraph 6002 Class E Airspace Designated as Surface Areas.

* * * * *

AGL ND E2 Devils Lake, ND [Amended]

Devils Lake Regional Airport, ND

(Lat. 48°07′00″ N., long. 98°54′36″ W.)

Devils Lake VOR/DME

(Lat. 48°06′55″ N., long. 98°54′45″ W.)

Within a 4-mile radius of Devils Lake Regional Airport, and within 3 miles each side of the Devils Lake VOR/DME 134° radial extending from the 4-mile radius to 8.7 miles southeast of the VOR/DME and within 2.3 miles each side of the Devils Lake VOR/DME 324° radial extending from the 4-mile radius to 8.7 miles northwest of the VOR/DME. This Class E airspace area is effective during the specific dates and times established in advance by a Notice to Airmen. The effective date and time will thereafter be continuously published in the Chart Supplement.

* * * * *

Paragraph 6004 Class E Airspace Designated as an Extension to a Class D or Class E Surface Area.

* * * * *

AGL ND E4 Fargo, ND [Amended]

Fargo, Hector International Airport, ND

(Lat. 46°55′14″ N., long. 96°48′57″ W.)

Fargo VOR/DME

(Lat. 46°45′12″ N., long. 96°51′05″ W.)

That airspace extending upward from the surface within 1.7 miles each side of the Fargo VOR/DME 009° radial, extending from the 4.5-mile radius of Hector International Airport to 7.8 miles south of the airport.

* * * * *

Paragraph 6005 Class E Airspace Areas Extending Upward From 700 Feet or More Above the Surface of the Earth.

* * * * *

AGL ND E5 Bottineau, ND [Amended]

Bottineau Municipal Airport, ND

(Lat. 48°49′50″ N., long. 100°25′02″ W.)

That airspace extending upward from 700 feet above the surface within a 6.4-mile radius of Bottineau Municipal Airport, and that airspace extending upward from 1,200 feet above the surface within an area bounded on the north by lat. 49°00′00″ N., on the east by long. 99°49′00″ W., on the south by the 10.5-mile radius of Rugby, ND, Class E airspace area, and on the west by the 47-mile radius of the Minot, ND, Class E airspace area.

* * * * *

AGL ND E5 Carrington, ND [Amended]

Carrington Municipal Airport, ND

(Lat. 47°27′04″ N., long. 99°09′05″ W.)

Devils Lake VOR/DME

(Lat. 48°06′55″ N., long. 98°54′45″ W.)

That airspace extending upward from 700 feet above the surface within a 6.4-mile radius of Carrington Municipal Airport; and that airspace extending upward from 1,200 feet above the surface beginning at lat. 47°50′32″ N., long. 99°16′35″ W.; along the 22-mile arc south of Devils Lake VOR/DME, to lat. 47°45′07″ N. long., 98°50′22″ W.; to lat. 47°17′46″ N., long 98°44′58″ W.; to lat. 47°05′35″ N. long., 99°30′00″ W.; to lat. 47°40′20″ N., long. 99°30′00″ W. to the point of the beginning.

* * * * *

AGL ND E5 Cooperstown, ND [Amended]

Cooperstown Municipal Airport, ND

(Lat. 47°25′22″ N., long. 98°06′21″ W.)

Devils Lake VOR/DME

(Lat. 48°06′55″ N., long. 98°54′45″ W.)

Fargo, Hector International Airport, ND

(Lat. 46°55′14″ N., long. 96°48′57″ W.)

Grand Forks AFB, ND

(Lat. 47°57′41″ N., long. 97°24′03″ W.)

Jamestown VOR/DME

(Lat. 46°55′58″ N., long. 98°40′44″ W.)

Valley City, Barnes County Municipal Airport, ND

(Lat. 46°56′28″ N., long. 98°01′05″ W.)

That airspace extending upward from 700 feet above the surface within a 6.4-mile radius of Cooperstown Municipal Airport, and that airspace extending upward from 1,200 feet above the surface beginning at lat. 48°04′04″ N., long. 98°22′13″ W.; to lat. 48°03′19″ N. long. 98°13′ 59″ W.; thence counterclockwise via the 34-mile radius of Grand Forks AFB ; thence counterclockwise via the 40-mile radius of Fargo, Hector International Airport; to lat. 46°50′55″ N., long. 97°46′55″ W.; to lat. 46°51′26″ N., long. 97°52′13″ W. ; thence counterclockwise via the 7.9 mile radius of Barnes County Municipal Airport; to lat. 46°53′17″ N., long. 98°11′38″ W. to lat. 46°53′43″ N., long. 98°16′53″ W.; thence counterclockwise via the 16.5-mile radius of Jamestown VOR/DME; to lat. 47°12′19″ N., long. 98°43′54″ W.; to lat. 47°45′07″ N., long. 98°50′22″ W.; thence counterclockwise via the 22-mile radius of Devils Lake VOR/DME to the point of the beginning.

* * * * *

AGL ND E5 Devils Lake, ND [Amended]

Devils Lake Regional Airport, ND

(Lat. 48°07′00″ N., long. 98°54′36″ W.)

Devils Lake VOR/DME

(Lat. 48°06′55″ N., long. 98°54′45′ W.)

That airspace extending upward from 700 feet above the surface within an 8.7-mile radius of Devils Lake Regional Airport and that airspace extending upward from 1,200 feet above the surface within a 22-mile radius of Devils Lake VOR/DME.

* * * * *

AGL ND E5 Gwinner, ND [Amended]

Gwinner-Roger Melroe Field, ND

(Lat. 46°13′06″ N., long. 97°38′36″ W.)

That airspace extending upward from 700 feet above the surface within a 6.5-mile radius of Gwinner-Roger Melroe Field Airport.

* * * * *

AGL ND E5 Hettinger, ND [Amended]

Hettinger Municipal Airport, ND

(Lat. 46°00′54″ N., long. 102°39′22″ W.)

That airspace extending upward from 700 feet above the surface within a 6.5-mile radius of Hettinger Municipal Airport; and that airspace extending upward from 1,200 feet above the surface bounded by a line beginning at lat. 46°20′00″ N., long. 102°58′00″ W., to lat. 46°20′00″ N., long. 102°44′00″ W., to lat. 45°45′00″ N., long. 102°09′00″ W., to lat. 45°45′00″ N., long. 102°58′00″ W., to the point of beginning.

* * * * *

AGL ND E5 Pembina, ND [Amended]

Pembina Municipal Airport, ND

(Lat. 48°56′33″ N., long. 97°14′27″ W.)

Humboldt VORTAC

(Lat. 48°52′09″ N., long. 97°07′02″ W.)

Grand Forks AFB, ND

(Lat. 47°57′41″ N., long. 97°24′03″ W.)

Devils Lake VOR/DME

(Lat. 48°06′55″ N., long. 98°54′45″ W.)

That airspace extending upward from 700 feet above the surface within a 6.2-mile radius of Pembina Municipal Airport, and within 1.8 miles each side of Humboldt VORTAC 132/312° radials extending from the 6.2-mile radius to 7 miles southeast of the airport; and that airspace extending upward from 1,200 feet above the surface beginning at lat. 49°00′00″ N., long. 97°30′01″ W.; to lat. 48°48′00″ N., long. 97°30′01″ W.; to lat. 48°18′33″ N., long. 98°39′55″ W.; thence clockwise around a 15.3-mile radius of Devils Lake VOR/DME to lat. 48°04′57″ N., long. 98°32′ 07″ W.; to lat. 48°03′19″ N., long. 98°13′59″ W.; thence clockwise along the 34-mile radius of Grand Forks AFB to the North Dakota/Minnesota state boundary; thence north along the state boundary to the United States/Canada border; thence west along the United States/Canada border to the point of beginning.

* * * * *

AGL ND E5 Rugby, ND [Amended]

Rugby Municipal Airport, ND

(Lat. 48°23′25″ N., long. 100°01′27″ W.)

That airspace extending upward from 700 feet above the surface within a 6.3-mile radius of Rugby Municipal Airport; and that airspace extending upward from 1,200 feet above the surface within a 13-mile radius of Rugby Municipal Airport, and within 8.1 miles north and 4.2 miles south of the 115° bearing from the airport extending from the 13-mile radius to 16.1 miles east of the airport, and within 8.5 miles south and 3.8 miles north of the 314° bearing from the airport extending from the 13-mile radius to 16.1 miles northwest of the airport, excluding that airspace within Minot, ND, and Rolla, ND, Class E airspace areas.

* * * * *

AGL ND E5 Valley City, ND [Amended]

Barnes County Municipal Airport, ND

(Lat. 46°56′28″ N., long. 98°01′05″ W.)

That airspace extending upward from 700 feet above the surface within a 6.4 mile radius of Barnes County Municipal Airport; and that airspace extending upward from 1,200 feet above the surface within a 7.9-mile radius of the airport, and within 4 miles southwest and 8.3 miles northeast of the 133° bearing from the airport extending from the 7.9-mile radius to 21.8 miles southeast of the airport.

* * * * *

AGL ND E5 Wahpeton, ND [Amended]

Harry Stern Airport, ND

(Lat. 46°14′39″ N., long. 96°36′26″ W.)

That airspace extending upward from 700 feet above the surface within a 6.4-mile radius of Harry Stern Airport; and that airspace extending upward from 1,200 feet above the surface within a 25-mile radius of Harry Stern Airport bounded on the east by the Minnesota border and on the west by a line from lat. 45°55′26″ N., long. 96°59′22″ W., to lat. 46°37′04″ N., long. 96°52′27″ W.

Issued in Fort Worth, Texas, on June 13, 2017.
Walter Tweedy,
Acting Manager, Operations Support Group, ATO Central Service Center.

[FR Doc. 2017-12994 Filed 6-21-17; 8:45 am]

BILLING CODE 4910-13-P